DEPARTMENT OF TRANSPORTATION

Federal Aviation Administration

14 CFR Part 71

[Airspace Docket No. 99-AGL-54]

Modification of Class E Airspace; Cooperstown, ND

AGENCY: Federal Aviation Administration (FAA), DOT.

ACTION: Final rule.

SUMMARY: This action modifies Class E airspace at Cooperstown, ND. A review of the controlled airspace within the State of North Dakota indicated a small portion of Class G uncontrolled airspace in the vicinity of Cooperstown, ND. Controlled airspace extending upward from 1200 feet above ground level (AGL) is needed to allow the FAA to provide safe and efficient air traffic control services for aircraft executing enroute and terminal instrument procedures into and out of Grand Forks International Airport. This small portion of uncontrolled airspace, in the southwest quadrant of Grand Forks Approach Control airspace, causes confusion for both pilots and controllers and does not allow for consistent application of instrument flight rules in a critical area servicing the Grand Forks International Airport. This action eliminates the Class G airspace approximately 15 nautical miles to the southeast of Cooperstown Airport.

EFFECTIVE DATE: 0901 UTC, April 20, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Wednesday, November 3, 1999, the FAA proposed to amend 14 CFR part 71 to modify Class E airspace at Cooperstown, ND (64 FR 59689). The proposal was to modify controlled airspace extending upward from 1200 feet AGL to contain Instrument Flight rules (IFR) operations in controlled airspace during portions of the terminal operation and while transiting between the enroute and terminal environments. Interested parties were invited to participate in this rulemaking proceeding by submitting written comments on the proposal to the FAA. No comments objecting to the proposal were received. Class E airspace designations for airspace areas extending upward from 700 feet or more above the surface of the Earth are published in paragraph 6005 of FAA Order 7400.9G dated September 1, 1999, and effective September 16, 1999, which is incorporated by reference in 14 CFR 71.1. The Class E airspace designation listed in this document will be published subsequently in the Order.

The Rule

This amendment to 14 CFR part 71 modifies Class E airspace at Cooperstown, ND, to accommodate aircraft executing instrument flight procedures into and out of Grand Forks International Airport by modifying the existing controlled airspace. A small portion of uncontrolled airspace to the southeast of Cooperstown Airport will be eliminated. The area will be depicted on appropriate aeronautical charts.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

In consideration of the foregoing, the Federal Aviation Administration amends 14 CFR part 71 as follows:

Adoption of the Amendment

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

* * * * *

Paragraph 6005 Class E airspace areas extending upward from 700 Feet or more above the surface of the earth.

* * * * *

AGL ND E5 Cooperstown, ND [Revised]

Cooperstown Municipal Airport, ND

(Lat. 47°25′22″ N., long. 098°06′21″ W.)

Devils Lake VOR/DME

(Lat. 48°06′55″ N., long. 098°54′45″ W.)

Fargo, Hector International Airport, ND

(Lat. 46°55′10″ N., long. 096°48′54″ W.)

Grand Forks AFB, ND

(Lat. 47°57′40″ N., long. 097°24′04″ W.)

Jamestown VOR/DME

(Lat. 46°55′58″ N., long. 098°40′44″ W.)

Valley City, Barnes County Municipal Airport, ND

(Lat. 46°56′28″ N., long. 098°01′03″ W.)

That airspace extending upward from 700 feet above the surface within a 6.4-mile radius of Cooperstown Municipal Airport and that airspace extending upward from 1,200 feet above the surface within an area bounded on the north by V430; on the northeast by the 34.0-mile radius of Grand Forks AFB; on the southeast by the 40.0-mile radius of Fargo, Hector International Airport; on the south by V2-510 east of Valley City, ND, the 7.9-mile radius of Valley City, Barnes County Municipal Airport, and V2-510 west of Valley City, ND; on the southwest by the 16.5-mile radius of the Jamestown VOR/DME; on the west by V170; and on the northwest by the 22.0-mile radius of the Devils Lake VOR/DME.

* * * * *

Issued in Des Plaines, Illinois on January 7, 2000.
Christopher R. Blum,
Manager, Air Traffic Division.

[FR Doc. 00-2258 Filed 2-1-00; 8:45 am]

BILLING CODE 4910-13-M